DEPARTMENT OF ENERGY

Federal Energy Regulatory Commission

Combined Notice of Filings #1

Take notice that the Commission received the following electric rate filings:

Docket Numbers: ER10-2881-007; ER10-2882-007; ER10-2883-007; ER10-2884-007; ER10-2885-007; ER10-2641-007; ER10-2663-007; ER10-2886-007; ER13-1101-002.

Applicants: Alabama Power Company, Southern Power Company, Mississippi Power Company, Georgia Power Company, Gulf Power Company, Oleander Power Project, Limited Partnership, Southern Company—Florida LLC, Southern Turner Cimarron I, LLC, Spectrum Nevada Sola, LLA.

Description: Notice of Change in Status of Alabama Power Company, et al.

Filed Date: 5/16/13.

Accession Number: 20130516-5079.

Comments Due: 5 p.m. ET 6/6/13.

Docket Numbers: ER11-3262-002.

Applicants: Trans Bay Cable LLC.

Description: Transmission Rate Case Refund Report to be Effective N/A under ER11-3262 to be effective N/A.

Filed Date: 5/16/13.

Accession Number: 20130516-5078.

Comments Due: 5 p.m. ET 6/6/13.

Docket Numbers: ER13-741-001.

Applicants: ISO New England Inc.

Description: Compliance Filing RE: Oakfield Large Generator Interconnection Agreement to be effective N/A.

Filed Date: 5/16/13.

Accession Number: 20130516-5043.

Comments Due: 5 p.m. ET 6/6/13.

Docket Numbers: ER13-1495-000.

Applicants: Southwest Power Pool, Inc.

Description: 2252R1 Cottonwood Wind Project GIA to be effective 4/18/2013.

Filed Date: 5/15/13.

Accession Number: 20130515-5132.

Comments Due: 5 p.m. ET 6/5/13.

Docket Numbers: ER13-1496-000.

Applicants: AL Sandersville, LLC.

Description: Revised Market Based Rate Tariff Filing to be effective 5/16/2013.

Filed Date: 5/15/13.

Accession Number: 20130515-5143.

Comments Due: 5 p.m. ET 6/5/13.

Docket Numbers: ER13-1497-000.

Applicants: Effingham County Power, LLC.

Description: Revised Market Based Rate Tariff Filing to be effective 5/16/2013.

Filed Date: 5/15/13.

Accession Number: 20130515-5144.

Comments Due: 5 p.m. ET 6/5/13.

Docket Numbers: ER13-1498-000.

Applicants: MPC Generating, LLC.

Description: Revised Market Based Rate Tariff Filing to be effective 5/16/2013.

Filed Date: 5/15/13.

Accession Number: 20130515-5145.

Comments Due: 5 p.m. ET 6/5/13.

Docket Numbers: ER13-1499-000.

Applicants: Sabine Cogen, LP.

Description: Revised Market Based Rate Tariff Filing to be effective 5/16/2013.

Filed Date: 5/15/13.

Accession Number: 20130515-5147.

Comments Due: 5 p.m. ET 6/5/13.

Docket Numbers: ER13-1500-000.

Applicants: Walton County Power, LLC.

Description: Revised Market Based Rate Tariff Filing to be effective 5/16/2013.

Filed Date: 5/15/13.

Accession Number: 20130515-5152.

Comments Due: 5 p.m. ET 6/5/13.

Docket Numbers: ER13-1501-000.

Applicants: Washington County Power, LLC.

Description: Revised Market Based Rate Tariff Filing to be effective 5/16/2013.

Filed Date: 5/15/13.

Accession Number: 20130515-5154.

Comments Due: 5 p.m. ET 6/5/13.

Docket Numbers: ER13-1502-000.

Applicants: Dynegy Roseton, L.L.C.

Description: Notice of Cancellation to be effective 5/16/2013.

Filed Date: 5/15/13.

Accession Number: 20130515-5155.

Comments Due: 5 p.m. ET 6/5/13.

Docket Numbers: ER13-1503-000.

Applicants: Southern California Edison Company.

Description: Amendment to Exhibit A of WDAT Service Agreement with SCE-RAP for CREST to be effective 5/16/2013.

Filed Date: 5/15/13.

Accession Number: 20130515-5156.

Comments Due: 5 p.m. ET 6/5/13.

Docket Numbers: ER13-1504-000.

Applicants: SWG Arapahoe, LLC.

Description: Application for Market-Based Rate Authority to be effective 6/10/2013.

Filed Date: 5/16/13.

Accession Number: 20130516-5024.

Comments Due: 5 p.m. ET 6/6/13.

Docket Numbers: ER13-1505-000.

Applicants: PacifiCorp.

Description: Iberdrola NITSA to be effective 5/1/2013 under ER13-1505 Filing Type: 10.

Filed Date: 5/16/13.

Accession Number: 20130516-5054.

Comments Due: 5 p.m. ET 6/6/13.

Docket Numbers: ER13-1506-000.

Applicants: PPL EnergyPlus, LLC.

Description: Notice of Cancellation of Service Agreement of PPL EnergyPlus, LLC.

Filed Date: 5/16/13.

Accession Number: 20130516-5072.

Comments Due: 5 p.m. ET 6/6/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 16, 2013.
Nathaniel J. Davis, Sr.,
Deputy Secretary.

[FR Doc. 2013-12472 Filed 5-24-13; 8:45 am]

BILLING CODE 6717-01-P